DEPARTMENT OF ENERGY

Federal Energy Regulatory Commission

[Docket No. RP02-361-028]

Gulfstream Natural Gas System, L.L.C.; Notice of Extension of Time

October 20, 2004.

On October 8, 2004, Gulfstream Natural Gas System, L.L.C. (Gulfstream) filed a motion for an extension of time to comply with the Commission's order (Order) issued September 22, 2004, in the above-docketed proceeding. 108 FERC ¶ 61, 294 (2004). In its motion, Gulfstream states that key personnel have been focused in recent weeks on operational issues in the aftermath of Hurricanes Frances and Ivan and that Gulfstream has been working closely with the shippers in Florida to ensure that it maintains sufficient gas deliveries to meet the energy requirements of Florida utilities. For these reasons, Gulfstream requests additional time to make the filing needed to fully comply with the September 22 Order.

Upon consideration, notice is hereby given that an extension of time to make its compliance filing as directed by the September 22 Order, is granted to and including November 1, 2004, as requested by Gulfstream.

Magalie R. Salas,
Secretary.

[FR Doc. E4-2862 Filed 10-26-04; 8:45 am]

BILLING CODE 6717-01-P